DEPARTMENT OF THE TREASURY

Internal Revenue Service

Open Meeting of the Taxpayer Advocacy Panel Multilingual Initiative (MLI) Issue Committee Will Be Conducted (via Teleconference); Correction

AGENCY: Internal Revenue Service (IRS), Treasury.

ACTION: Correction to notice.

SUMMARY: This document contains a correction to an open meeting of the Taxpayer Advocacy Panel Multilingual Initiative (MLI) Issue Committee being conducted (via teleconference) which was published in the Federal Register on Thursday, January 13, 2005 (70 FR 2465). This notice relates to the solicitation of public comments, ideas, and suggestions on improving customer service at the Internal Revenue Service.

FOR FURTHER INFORMATION CONTACT: Inez E. DeJesus at 1-888-912-1227, or (954) 423-7977.

SUPPLEMENTARY INFORMATION:

Background

The notice that is the subject of this correction is given pursuant to section 10(a)(2) of the Federal Advisory Committee Act, 5 U.S.C. App. (1988).

Need for Correction

As published, the notice, contains errors that may prove to be misleading and are in need of clarification.

Correction of Publication

Accordingly, the publication of the notice, which was the subject of FR Doc. 05-740, is corrected as follows:

1. On page 2465, column 1, under the caption DATES:, lines 2 and 3, the language “Tuesday, February 8, 2005 from 3 p.m. to 4 p.m. e.t.” is corrected to read “Tuesday, February 8, 2005, from 2:30 p.m. to 3:30 p.m. e.t.”

2. On page 2465, column 1, under the caption SUPPLEMENTARY INFORMATION:, line 8, the language “ February 8, 2005 from 3 p.m. to 4 p.m.” is corrected to read “February 8, 2005, from 2:30 p.m. to 3:30 p.m.”

Cynthia Grigsby,
Acting Chief, Publications and Regulations Branch, Legal Processing Division, Associate Chief Counsel (Procedures and Administration).

[FR Doc. 05-1146 Filed 1-14-05; 2:34 pm]

BILLING CODE 4830-01-P